GENERAL SERVICES ADMINISTRATION

48 CFR Parts 501, 519, and 552

[GSAR Change 97; GSAR Case 2017-G502; Docket No. GSA-GSAR-2018-0015; Sequence No. 1]

RIN 3090-AJ86

General Services Administration Acquisition Regulation (GSAR); Transition to SBA Mentor-Protégé Program

AGENCY: Office of Acquisition Policy, General Services Administration.

ACTION: Direct final rule.

SUMMARY: This direct final rule amends the General Services Administration Acquisition Regulation (GSAR) to remove the GSAR subpart GSA Mentor-Protégé Program and associated clauses that are duplicative of the Small Business Administration (SBA) governmentwide Mentor-Protégé program, and to remove several subcontracting provisions that are duplicative of the requirements in the Federal Acquisition Regulation (FAR) clause pertaining to the Small Business Subcontracting Plan.

DATES: This final rule is effective on April 3, 2019 without further notice unless adverse comments are received by March 3, 2019. If GSA receives adverse comments, we will publish a timely withdrawal in the Federal Register informing the public that the rule will not take effect.

ADDRESSES: Submit comments identified by GSAR Case 2017, G502, Transition to SBA Mentor-Protégé Program, by any one of the following methods:

• Regulations.gov: http://www.regulations.gov. Submit comments via the Federal eRulemaking portal by searching for “GSAR Case 2017-G502”. Select the link “Comment Now” that corresponds with “GSAR Case 2017-G502.” Follow the instructions provided on the screen. Please include your name, company name (if any), and “GSAR Case 2017-G502” on your attached document.

• Mail: General Services Administration, Regulatory Secretariat Division (MVCB), ATTN: Lois Mandell, 1800 F Street NW, 2nd Floor, Washington, DC 20405.

Instructions: Please submit comments only and cite “GSAR Case 2017-G502” in all correspondence related to this case. All comments received will be posted without change to http://www.regulations.gov, including any personal and/or business confidential information provided. To confirm receipt of your comment(s), please check https://www.regulations.gov, approximately two to three days after submission to verify posting (except allow 30 days for posting of comments submitted by mail).

FOR FURTHER INFORMATION CONTACT: Ms. Dana Bowman, Procurement Analyst, at 202-357-9652, for clarification of content. For information pertaining to status or publication schedules, contact the Regulatory Secretariat Division at 202-501-4755. Please cite GSAR Case 2017-G502, Transition to SBA Mentor-Protégé Program.

SUPPLEMENTARY INFORMATION:

I. Background

On August 24, 2016, the SBA published a final rule, Small Business Mentor-Protégé Programs, in the Federal Register at 81 FR 48557 to implement provisions of the Small Business Jobs Act of 2010, and the National Defense Authorization Act (NDAA) for Fiscal Year (FY) 2013. Based on authorities provided in these two statutes, the rule established a governmentwide mentor-protégé program for all small business concerns. Section 1641, of the NDAA FY 2013, provided that a Federal department or agency cannot carry out its own agency specific mentor-protégé program for small businesses unless the head of the department or agency submitted a plan for such a program to SBA and received the SBA Administrator's approval of the plan. Since the SBA final rule was published, GSA has focused on supporting existing mentor-protégé agreements but has not administered new mentor-protégé agreements. GSA is amending the GSAR to repeal the regulations implementing the GSA Mentor-Protégé Program and transition contractors to the governmentwide mentor-protégé program to comply with the SBA final rule. GSA will reduce redundancy and gain efficiencies by using SBA's governmentwide mentor-protégé program.

Upon review of GSA's subcontracting requirements as part of regulatory reform efforts, it was determined that three subcontracting provisions were not necessary as they are duplicative of FAR requirements. GSAR provision 552.219-71, Notice to Offerors of Subcontracting Plan Requirements, requires any subcontracting plan submitted pursuant to FAR 52.219-9 to reflect a commitment to ensuring the maximum practicable opportunity to small business concerns. GSAR provision 552.219-72, Preparation, Submission, and Negotiation of Subcontracting Plans, requires an offeror that is submitting a subcontracting plan in accordance with FAR 52.219-9 to submit the subcontracting plan with the initial offer. This provision also provides guidance on the elements expected in a subcontracting plan. GSAR provision 552.219-73, Goals for Subcontracting Plans, provides guidance on the expected goals for any subcontracting plan submitted pursuant to FAR 52.219-9. GSA is repealing GSAR provisions 552.219-71, 552.219-72, and 552.219-73 as the requirements of these provisions duplicate the requirements in FAR clause 52.219-9, Small Business Subcontracting Plan. By repealing these provisions, GSA will gain administrative efficiencies by reducing duplication.

II. General Information

This direct final rule makes the following changes to the GSAR: (1) Removes subpart 519.70, GSA Mentor-Protégé Program and associated clauses: 552.219-75, GSA Mentor-Protégé Program, and 552.219-76, Mentor Requirements and Evaluation, and, (2) removes section 519.708, Contract Clauses and associated provisions: 552.219-71, Notice to Offerors of Subcontracting Plan Requirements, 552.219-72, Preparation, Submission, and Negotiation of Subcontracting Plans, and 552.219-73, Goals for Subcontracting Plans. This final rule also updates the table in part 501 to remove the outdated OMB control numbers. GSA is publishing this rule without a prior proposed rule because we view this as a noncontroversial action and anticipate no adverse comment. If GSA receives adverse comment, we will publish a timely withdrawal in the Federal Register informing the public that the rule will not take effect. Any parties interested in commenting must do so at this time.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Executive Order 13771

This final rule is not subject to E.O. 13771, because this rule is not a significant regulatory action under E.O. 12866.

V. Regulatory Flexibility Act

GSA does not expect this direct final rule to have a significant economic impact on a substantial number of small entities within the meaning of the Regulatory Flexibility Act, 5 U.S.C. 601, et seq., because this rule removes certain GSAR provisions and clauses from the GSAM to comply with FAR 1.104 and statutory amendments in Section 1641 of NDAA FY 2013. GSA will use SBA's governmentwide mentor-protégé program instead of managing its own program. Additionally, this rule does not impose requirements involving capital investment, implementing procedures, or record keeping.

VI. Paperwork Reduction Act

The Paperwork Reduction Act (44 U.S.C. chapter 35) does apply. These changes to the GSAR remove the GSA information collection requirements previously approved under the OMB Control Numbers 3090-0286 GSA Mentor-Protégé Program and 3090-0252 Preparation, Submission and Negotiation of Subcontracting Plans. GSA will submit to OMB a request to repeal the information collection requirements. For a copy of the information collection documents, contact the Regulatory Secretariat Division by mail at 1800 F Street NW, Washington, DC 20405, or by phone at 202-501-4755. Please cite the GSAR Case 2017-G502, Transition to SBA Mentor-Protégé Program.

List of Subjects in 48 CFR Parts 501, 519, and 552.

Government procurement.

Dated: January 30, 2019.
Jeffrey A. Koses,
Senior Procurement Executive, Office of Acquisition Policy, Office of Government-wide Policy, General Services Administration.

Therefore, GSA amends 48 CFR parts 501, 519, and 552 as set forth below:

1. The authority citation for 48 CFR parts 501, 519 and 552 continues to read as follows:

Authority: 40 U.S.C. 121(c).

PART 501—GENERAL SERVICES ADMINISTRATION ACQUISITION REGULATION SYSTEM

501.106 [Amended]

2. Amend section 501.106 in the table by removing GSAR references “519.708(b)”, “519.70”, “552.219-72”, “552.219-75”, and “552.219-76”, and their corresponding OMB control numbers “3090-0252”, “3090-0286”, “3090-0252”, “3090-0286”, and “3090-0286”, respectively.

PART 519—SMALL BUSINESS PROGRAMS

519.708 [Removed]

3. Remove section 519.708.

Subpart 519.70 [Removed]

4. Remove subpart 519.70.

PART 552—SOLICITATION PROVISIONS AND CONTRACT CLAUSES

552.219-71 through 552.219-73 [Removed]

5. Remove sections 552.219-71 through 552.219-73.

552.219-75 and 552.219-76 [Removed]

6. Remove sections 552.219-75 and 552.219-76.

[FR Doc. 2019-00882 Filed 2-1-19; 8:45 am]

BILLING CODE 6820-61-P